DEPARTMENT OF JUSTICE

Office of Juvenile Justice and Delinquency Prevention

[OJP (OJJDP) Docket No. 1521]

Final Plan for Fiscal Year 2010

AGENCY: Office of Juvenile Justice and Delinquency Prevention, Office of Justice Programs, Department of Justice.

ACTION: Notice of Final Plan for Fiscal Year 2010.

SUMMARY: The Office of Juvenile Justice and Delinquency Prevention is publishing this notice of its Final Plan for fiscal year (FY) 2010.

FOR FURTHER INFORMATION CONTACT: The Office of Juvenile Justice and Delinquency Prevention at 202-307-5911. [This is not a toll-free number.]

SUPPLEMENTARY INFORMATION: The Office of Juvenile Justice and Delinquency Prevention (OJJDP) is a component of the Office of Justice Programs (OJP) in the U.S. Department of Justice. Provisions within Section 204(b)(5)(A) of the Juvenile Justice and Delinquency Prevention Act of 1974, as amended, 42 U.S.C. 5601 et seq. (JJDP Act), direct the OJJDP Administrator to publish for public comment a Proposed Plan describing the program activities that OJJDP proposes to carry out during FY 2010 under Parts D and E of Title II of the JJDP Act, codified at 42 U.S.C. 5651-5665a, 5667, 5667a. Because the Office's discretionary activities extend beyond Parts D and E, the Acting Administrator of OJJDP published a proposed plan outlining a more comprehensive listing of the Office's programs. OJJDP invited the public to comment on the Proposed Plan for FY 2010, which was published in the Federal Register on December 1, 2009 (74 FR 62821). The deadline for submitting comments on the Proposed Plan was January 15, 2010.

The Acting Administrator reviewed and analyzed the public comments that OJJDP received, and a summary of OJJDP activities since the comment period ended appears later in this document. The Acting Administrator took these comments into consideration in developing this Final Plan, which describes the program activities that OJJDP intends to fund during FY 2010.

Since early in 2010, OJJDP has posted on its Web site (http://www.ojjdp.ncjrs.gov) solicitations for competitive programs to be funded under the Final Plan for FY 2010. These funding opportunities are announced via OJJDP's JUVJUST listserv and other methods of electronic notification. To obtain information about OJJDP and other OJP funding opportunities, visit Grants.gov's “Find Grant Opportunities” Web page at http://www.grants.gov/applicants/find_grant_opportunities.jsp. No proposals, concept papers, or other forms of application should be submitted in response to this Final Plan.

Department Priorities: OJJDP has structured this plan to reflect the high priority that the Administration and the Department have placed on addressing youth violence and victimization and improving protections for youth involved with the juvenile justice system. The programs presented here represent OJJDP's current thinking on how to advance the Department's priorities during this fiscal year. This Final Plan also incorporates feedback from OJJDP's ongoing outreach to the field seeking ideas on program areas and the most promising approaches for those types of areas.

OJJDP's Purpose: Congress established OJJDP through the JJDP Act of 1974 to help States and communities prevent and control delinquency and strengthen their juvenile justice systems and to coordinate and administer national policy in this area.

Although States, American Indian/Alaska Native (AI/AN) communities,¹ and other localities retain primary responsibility for administering juvenile justice and preventing juvenile delinquency, OJJDP supports and supplements the efforts of public and private organizations at all levels through program funding via formula, block, and discretionary grants; administration of congressional earmark programs; research; training and technical assistance; funding of demonstration projects; and dissemination of information. OJJDP also helps administer Federal policy related to juvenile justice and delinquency prevention through its leadership role in the Coordinating Council on Juvenile Justice and Delinquency Prevention.

¹ In this plan, the terms “tribes” and “tribal jurisdictions” refer to both American Indian and Alaska Native communities.

OJJDP's Vision: OJJDP strives to be the recognized authority and national leader dedicated to the future, safety, and well-being of children and youth in, or at risk of entering, the juvenile justice system and to serving children, families, and community organizations that protect children from harm and exploitation.

OJJDP's Mission: OJJDP provides national leadership, coordination, and resources to prevent and respond to juvenile delinquency and victimization by supporting States, tribal jurisdictions, and communities in their efforts to develop and implement effective coordinated prevention and intervention programs and improve the juvenile justice system so that it protects public safety, holds offenders accountable, and provides treatment and rehabilitation services tailored to the needs of juveniles and their families.

Guiding Principles for OJJDP's National Leadership: OJJDP provides targeted funding, sponsors research and demonstration programs, offers training and technical assistance, disseminates information, and uses technology to enhance programs and collaboration in exercising its national leadership role. In all of these efforts, the following four principles guide OJJDP:

(1) Empower communities and engage youth and families.

(2) Promote evidence-based practices.

(3) Require accountability.

(4) Enhance collaboration.

1. Empower communities and engage youth and families. Families and communities play an essential role in any effort to prevent delinquency and protect children from victimization. Communities must reach beyond the formal systems of justice, social services, and law enforcement to tap into the wisdom and energies of many others—including business leaders, the media, neighborhood associations, block leaders, elected officials, tribal leaders, clergy, faith-based organizations, and especially families and young people themselves—who have a stake in helping local youth become productive, law-abiding citizens. In particular, OJJDP must engage families and youth in developing solutions to delinquency and victimization. Their strengths, experiences, and aspirations provide an important perspective in developing those solutions.

To be effective, collaboration among community stakeholders must be grounded in up-to-date information. With Federal assistance that OJJDP provides, community members can partner to gather data, assess local conditions, and make decisions to ensure resources are targeted for maximum impact.

2. Promote evidence-based practices. To make the best use of public resources, OJJDP must identify “what works” in delinquency prevention and juvenile justice. OJJDP is the only Federal agency with a specific mission to develop and disseminate knowledge about what works in this field. Drawing on this knowledge, OJJDP helps communities replicate proven programs and improve their existing programs. OJJDP helps communities match program models to their specific needs and supports interventions that respond to the developmental, cultural, and gender needs of the youth and families they will serve.

3. Require accountability. OJJDP requires the national, State, tribal, and local entities whose programs OJJDP supports to explain how they use program resources, determine and report on how effective the programs are in alleviating the problems they are intended to address, and propose plans for remediation of performance that does not meet standards. OJJDP has established mandatory performance measures for all its programs and reports on those measures to the Office of Management and Budget. OJJDP requires its grantees and applicants to report on these performance measures, set up systems to gather the data necessary to monitor those performance measures, and use this information to continuously assess progress and fine-tune the programs.

4. Enhance collaboration. Juvenile justice agencies and programs are just one part of a larger set of systems that encompasses the many agencies and programs that work with at-risk youth and their families. For delinquency prevention and child protection efforts to be effective, they must be coordinated at the local, tribal, State, and Federal levels with law enforcement, social services, child welfare, public health, mental health, school, and other systems that address family strengthening and youth development. One way to achieve this coordination is to establish broad-based coalitions to create consensus on service priorities and to build support for a coordinated approach. With this consensus as a foundation, participating agencies and departments can then build mechanisms to link service providers at the program level—including procedures for sharing information across systems.

OJJDP took its guidance in the development of this Final Plan from the priorities that the Attorney General has set forth for the Department. At the same time, OJJDP drew upon its Strategic Plan for 2009-2011. The four primary goals at the heart of OJJDP's Strategic Plan echo the Attorney General's priorities. Those goals are: prevent and respond to delinquency, strengthen the juvenile justice system, prevent and reduce the victimization of children, and prevent and reduce youth violence to create safer neighborhoods.

OJJDP's Summary of Public Comments on the FY 2010 Proposed Plan

OJJDP published its Proposed Plan for FY 2010 in the Federal Register (74 FR 62821) on December 1, 2009. During the subsequent 45-day public comment period, OJJDP received 150 submissions. Since the close of public comment, OJJDP has carefully reviewed and considered each of the submissions in its development of the Final Plan for FY 2010.

Comments addressed many of the program areas and activities in which OJJDP is currently engaged. Far and away, detention and corrections reform was the single topic that elicited the most responses. More than a third of the comments dealt with some aspect of detention and corrections reform. In keeping with U.S. Department of Justice priorities, OJJDP will sponsor several detention and corrections reform programs in FY 2010. They include the National Training and Technical Assistance Center for Youth in Custody, which will provide education, training, and technical assistance for State, local, and tribal departments of juvenile justice and corrections, service providers, and private organizations that operate juvenile facilities. OJJDP will also partner with the Annie E. Casey Foundation to expand its Juvenile Detention Alternatives Initiative.

Other areas that drew frequent or substantive comments were reauthorization of the JJDP Act, disproportionate minority contact, mentoring, gender-specific issues, and family violence.

OJJDP looks to the field for guidance on emerging juvenile justice needs and issues of concern, and targets its allocation of funding and resources, based, in part, on the feedback the Office receives from policymakers and practitioners through such vehicles as the Proposed Plan. OJJDP wishes to note that in the interim period between publication of the Proposed Plan in December and this Final Plan, Congress identified the Office's funding streams for FY 2010 and OJJDP adjusted its funding priorities accordingly. As a result, OJJDP will not fund in 2010 some programs that appeared in the Proposed Plan, and OJJDP also has added new programs. Comments the Office received on the Proposed Plan, Administration priorities, and available funds informed these decisions.

Many respondents expressed their appreciation for being given the opportunity to review and comment on the Proposed Plan. OJJDP is encouraged by the volume and quality of the comments that the Office received for the 2010 Proposed Plan and looks forward to continued communication and collaboration with the juvenile justice field.

OJJDP Final Plan for Fiscal Year 2010

Each year OJJDP receives formula and block grant funding as well as discretionary funds for certain program areas. Based on the 2010 budget, OJJDP offers the following 2010 Final Plan for its discretionary funding. Programs are organized according to Department priorities and traditional OJJDP focus areas.

Department and OJJDP Priorities

OJJDP administers grant programs authorized by the Juvenile Justice and Delinquency Prevention Act of 1974, as amended. OJJDP also administers programs under other legislative authority and through partnerships with other Federal agencies. In keeping with OJJDP's mission, these programs are designed to help strengthen the juvenile justice system, prevent juvenile delinquency and violence, and protect and safeguard the nation's youth. The Administration and the Attorney General have identified children's exposure to violence, gang and community violence, and racial disparities within the juvenile justice system as focus areas for the Department.

Programs To Address and Treat Children Exposed to Violence

The Attorney General's Initiative on Children Exposed to Violence Program: Phase I will support community-based strategic planning to prevent and reduce the impact of children's exposure to violence in their homes, schools, and communities. Within the Department, a committee comprising OJJDP, the Office for Victims of Crime, the Office on Violence Against Women, the National Institute of Justice, Community Oriented Policing Services, and the Executive Office of United States Attorneys jointly manages and supports this project. Through strategic planning, communities will improve access to, delivery of, and quality of services for children and families and respond to their needs at any point of entry into the legal, social services, medical, law enforcement, and community-based support systems. This program will expand existing partnerships among municipal and tribal leadership; education; health, including public health and mental health; family support and strengthening; social services; early childhood education and development; domestic violence advocacy and services; victim support; substance abuse prevention and treatment; crisis intervention; child welfare; courts; legal services; and law enforcement at the tribal, local, State, and Federal levels.

Within OJJDP, Safe Start projects enhance the accessibility, delivery, and quality of services provided young children who have been exposed to violence or who are at high risk. These programs focus on practice innovation, research and evaluation, training and technical assistance, and resource development and public awareness. In 2010, OJJDP efforts to address children exposed to violence include:

• The Safe Start Promising Approaches Project will develop and support practice enhancements and innovations to prevent and reduce the impact of children's exposure to violence in their homes and communities. The two components of this project are: (1) “Strategic Enhancement,” which improves an ongoing evidence-based model, or (2) “Practice Innovation,” which implements a strategy/intervention based on sound theory and evaluative literature, which has yet to be evaluated rigorously. OJJDP will also conduct a national evaluation of the project beginning in 2010.

• OJJDP will fund a 12- month, full-time fellow position located at OJJDP to focus on children's exposure to violence programming. The position is funded via a grant to the fellow's home institution in the amount of their salary and benefit costs for the duration of the fellowship.

OJJDP will conduct a second wave of the National Survey of Children Exposed to Violence to capture trend data and compare it to the results of the first survey. This project will document changes in the incidence and prevalence of children's exposure to a broad array of violence, crime, and abuse experiences.

Community-Based Violence Prevention Demonstration Program

Under this program, communities will develop multi-strategy, multi-disciplinary approaches to reduce gun violence. These programs will target the high-risk activities and behaviors of a small number of carefully selected members of the community who are likely to be involved in violent activities, specifically gun violence, in the immediate future. These programs will be closely coordinated with a broader administration initiative. These demonstration programs will support Federal, State, and local partnerships to replicate proven strategies to reduce violence, such as CeaseFire, which is widely credited with significantly reducing shootings and homicides in targeted Chicago communities. CeaseFire, which employs a public health approach, interrupts the cycle of violence and changes norms about behavior. OJJDP will consider for grant support under this program other community-based violence reduction models that are evidence-based. This demonstration program includes programs of research and evaluation and technical assistance. These programs are coordinated with the Bureau of Justice Assistance.

Disproportionate Minority Contact

Section 223(a)(22) of the JJDP Act of 1974, as amended, requires States to address delinquency prevention and system improvement efforts to reduce, without establishing or requiring numerical standards or quotas, the disproportionate number of minority youth who come into contact with the juvenile justice system. States fund these activities primarily through their Title II Formula and Title V Delinquency Prevention Grants funds. OJJDP continues to enhance the annual training and technical assistance it provides to the States to support their development of direct services (diversion, alternatives to secure confinement, advocacy, cultural competency training, etc.); legislative reforms; administrative, policy, and procedural changes; structured decisionmaking (detention screening, risk assessment, needs assessment instruments, etc.), and other activities. OJJDP staff will continue to conduct annual site visits to the States to monitor progress toward system change goals and to provide guidance. Additionally, OJJDP recently reorganized and added a new full-time DMC Coordinator, who will assist the States in their efforts to address and reduce DMC.

Youth Gang Prevention and Intervention Program

OJJDP will award grants to sites that replicate selected promising or effective secondary gang prevention and intervention programs in targeted communities as part of an existing community-based comprehensive anti-gang initiative. Sites will replicate one of the following programs: Aggression Replacement Training, Boys and Girls Clubs (BGCA) Gang Prevention Through Targeted Outreach, BGCA Gang Intervention Through Targeted Outreach, Broader Urban Involvement and Leadership Development Detention Program, and Movimiento Ascendencia.

Tribal Youth

Since 1998, Congress has appropriated more than $120 million for programs addressing tribal youth. OJJDP administers most of its tribal initiatives through the Tribal Youth Program (TYP). These programs fund initiatives, training and technical assistance, and research and evaluation projects designed to improve juvenile justice systems and delinquency-prevention efforts among federally recognized American Indian and Alaska Native tribes. Since 1999, 10 percent of the TYP appropriation has been used for research and evaluation activities and 2 percent has been used for training and technical assistance.

U.S. Department of Justice Coordinated Tribal Assistance

In response to concerns that tribes voiced during recent public listening sessions, DOJ developed the Coordinated Tribal Assistance Solicitation (CTAS) in 2010 that combined all of its existing competitive tribal solicitations into one document. The CTAS solicitation is posted on the Office of Justice Programs (OJP) Web page at http://www.tribaljusticeandsafety.gov/docs/ctassolicitation.pdf. Following are the OJJDP solicitations within the CTAS:

• Tribal Youth Program supports and enhances tribal efforts to prevent and control delinquency and improve their juvenile justice systems. Grantees develop and implement delinquency prevention programs, interventions for court-involved youth, improvements to the juvenile justice system, alcohol and substance abuse prevention programs, and emotional/behavioral program services.

• Tribal Youth Reconnection Program engages tribal youth who are chronically truant or at risk of dropping out of school in activities centered on cultural preservation, land reclamation, or green/sustainable tribal traditions.

• Tribal Youth Resiliency Program will support tribal efforts to develop and implement interventions that address the effects and issues of childhood trauma.

• Strengthening Initiative for Native Girls Program teaches native girls culturally appropriate skills to resist substance abuse, prevent teen pregnancy, prevent sexual abuse, foster positive relationships with peers and adults, learn self-advocacy, and build prosocial skills.

• Tribal Juvenile Detention Reentry Program provides services for youth residing within tribal juvenile detention centers or soon to be released from such a center. Services include risk and needs assessments, educational and vocational programs, mental health services, substance abuse programs, family strengthening, recreational activities, and extended reentry aftercare to help them successfully reintegrate into the tribal community.

Tribal Youth Field-Initiated Research and Evaluation Programs

These field-initiated studies will further what is understood regarding the experiences, strengths, and needs of tribal youth, their families, and communities and what works to reduce their risks for delinquency and victimization. This initiative is especially interested in evaluations that identify effective and promising delinquency prevention, intervention, and treatment programs for tribal youth, including those that assist tribal youth in enhancing their own cultural knowledge and awareness.

Child Protection Programs in Tribal Communities

This program will provide resources and technical assistance to Native American communities to help them address child abduction and child exploitation. Under this program, the grantee will expand the critical services, best practices, tools, and other resources of the AMBER Alert and Internet Crimes Against Children programs to protect children ages 0 to 18 in tribal communities at risk for exploitation.

Tribal Youth National Mentoring Program

This national initiative will support the development, maturation, and expansion of mentoring services for tribal youth on tribal reservations that are underserved due to location, shortage of mentors, emotional or behavioral challenges of the targeted population, or other situations.

Juvenile Justice System Reform

OJJDP recognizes the need for States to have effective and efficient juvenile justice systems and for the Office to assist them in identifying and implementing promising and evidence-based practices. Reforming juvenile justice and improving systems across the country is a priority for OJJDP. Components of the juvenile justice system that OJJDP will focus on in 2010 include detention and corrections reform, juvenile indigent defense, and youth transitioning back to their communities from a detention and corrections facility.

To improve juvenile detention and corrections in FY 2010, OJJDP will work with communities through a multidisciplinary and comprehensive approach that focuses on youth to assess their risks and needs and assure they receive effective services and programs that do not compromise public safety.

Juvenile Detention Alternatives Initiative

In FY 2010, OJJDP will partner with the Annie E. Casey Foundation to jointly fund an expansion of the Juvenile Detention Alternatives Initiative (JDAI) that will provide training and technical assistance to States and communities implementing the initiative. In 1992, the Casey Foundation launched JDAI, in which sites across the country created and tested new alternatives to detention.

At its essence, JDAI demonstrates that jurisdictions can safely reduce their reliance on secure detention. JDAI communities also test the hypothesis that detention reforms will equip juvenile justice systems with values, skills, and policies that will improve results in other components of the system.

The objectives of JDAI sites are to:

• Eliminate the inappropriate or unnecessary use of secure detention;

• Minimize re-arrest and failure-to-appear rates pending adjudication;

• Ensure appropriate conditions of confinement in secure facilities;

• Redirect public finances to sustain successful reforms;

• Reduce racial and ethnic disparities.

National Training and Technical Assistance Center for Youth in Custody

Through this program, OJJDP will establish the National Training and Technical Assistance Center for Youth in Custody (the Center) to provide education, training, and technical assistance for State, local, and tribal departments of juvenile justice and corrections, service providers, and private organizations that operate juvenile facilities. The Center will emphasize the rehabilitative goals of the juvenile justice system and provide comprehensive training, technical assistance, and resources directly to justice facilities that detain or confine youth. The Center will also update and contribute to the knowledge base of best practices in detaining or confining youth.

Juvenile Indigent Defense National Clearinghouse

OJJDP is developing and will implement a model national clearinghouse for juvenile defense attorneys to provide publications and resources, policy development and leadership opportunities, training, and technical assistance around indigent defense issues. This program will improve the overall level of systemic advocacy, enhance the quality of juvenile indigent defense representation, and ensure professional and ongoing technical support to the juvenile indigent defense bar.

Second Chance Act Adult and Juvenile Offender Reentry Demonstration Projects

OJJDP, in collaboration with the Bureau of Justice Assistance, will support additional demonstration projects under the Second Chance Act Youth Offender Reentry Initiative, a comprehensive response to the increasing number of people who are released from prison, jail, and juvenile facilities each year and are returning to their communities. The goal of this initiative is to reduce the rate of recidivism for offenders released from a juvenile residential facility and increase public safety. Demonstration projects provide necessary services to youth while in confinement and following their release into the community. The initiative will focus on addressing the unique needs of girls reentering their communities.

Girls' Delinquency

According to data from the Federal Bureau of Investigation, from 1991 to 2000, arrest rates of girls increased more, or decreased less, than those of boys for the same offenses. By 2004, girls accounted for 30 percent of juvenile arrests. This apparent trend raises a number of questions, including whether it reflects an increase in girls' delinquency or changes in society's responses to girls' behavior. While OJJDP's Girls Study Group helped expand what is known about what works—and what does not—in preventing and intervening in girls' delinquency, the field lacks adequate information about evidence-based programs that effectively address girls' delinquency. In FY 2010, OJJDP is supporting research and evaluation to identify effective delinquency prevention, intervention, and treatment programs for girls. OJJDP will also provide training and technical assistance to the field on effective delinquency programming for girls.

Evaluations of Girls' Delinquency Programs

These evaluations will measure the effectiveness of delinquency prevention, intervention, and/or treatment programs to prevent and reduce girls' risk behavior and offending. Over the past two decades, the number of girls entering the juvenile justice system has dramatically increased. This trend raised a number of questions for OJJDP, including whether this reflected an increase in girls' delinquency or changes in society's responses to girls' behavior. OJJDP's Girls Study Group recently completed a review of evaluations of girls' delinquency programs and found that most programs have not been evaluated, thereby limiting knowledge about the most appropriate and effective programs for girls.

National Girls Institute

The National Girls Institute will evaluate promising and innovative prevention, intervention, treatment, education, detention, and aftercare services for delinquent and at-risk girls. The Institute will translate the information learned through the Girls Study Group and other research and expert knowledge for practitioners and policymakers. The Institute will serve as OJJDP's national training and technical assistance provider for promising and evidence-based practices in girls' delinquency prevention, intervention, and treatment. The Institute will also provide information dissemination, collaboration, policy development, and other leadership functions.

Research, Evaluation, and Data Collection

OJJDP supports and promotes research, vigorous and informative evaluations of demonstration programs, and collection and analysis of statistical data. The goal of these activities is to generate credible and useful information to improve decisionmaking in the juvenile justice system. OJJDP sponsors research that has the greatest potential to improve the nation's understanding of juvenile delinquency and victimization and of ways to develop effective prevention and intervention programs to respond to it.

Field-Initiated Research and Evaluation Program

The 2010 Field Initiated Research and Evaluation program will support multiple grant awards for research and evaluations of programs and initiatives that focus on the juvenile justice system's response to delinquency and system improvement. The goal of the research questions posed will be to inform policy and lead to recommendations for juvenile justice system improvement.

Juvenile Justice Evaluation Center

This program will provide training and technical assistance to State, tribal, local, and non-profit entities that work in the juvenile justice and victimization field on how to prepare for and carry out an evaluation of their activities. The Juvenile Justice Evaluation Center will develop easily accessible tools and resources for the field and assist these agencies in developing evidence-based strategies and programs.

National Juvenile Justice Data Collection Program

OJJDP supports several key national juvenile data collection programs, some of which have existed for several years, and others that are new. These include:

• Census of Juveniles in Residential Placement, which collects information about all youth residing in facilities who are awaiting or have been adjudicated for a status or delinquent offense.

• Juvenile Residential Facility Census, which collects information about the security and services of facilities that hold youth for delinquent offenses, pre- and post-adjudication.

• Census of Juveniles on Probation, which collects a 1-day count of all youth on formal probation, including demographic characteristics and the offense for which they are being supervised.

• Census of Juvenile Probation Supervision Offices, which collects information about the offices that oversee youth who are on probation in the United States.

National Juvenile Justice Data Analysis Program

This program will support the juvenile justice community's need for current, high-quality data and statistical information. The grantee will maintain and update OJJDP's Statistical Briefing Book and its Easy Access data tools, conduct original research, produce publications, respond to information requests, and work with OJJDP to develop new data resources that respond to the needs of the juvenile justice field.

Substance Abuse and Treatment

OJJDP, often in partnership with other Federal agencies and private organizations, develops programs, research, or other initiatives to address juvenile use and abuse of illegal, prescription, and nonprescription drugs and alcohol. OJJDP's substance abuse efforts include control, prevention, and treatment programs.

Family and Juvenile Drug Court Programs

OJJDP will implement and enhance family drug courts that serve substance-abusing adults who are involved in the family dependency court system. The Center for Children and Family Futures will provide training and technical assistance to family drug courts. The Juvenile Drug Courts Mentoring and Support Services Initiative will build the capacity of States, State courts, local courts, units of local government, and tribal governments to develop and establish comprehensive support services that include mentoring, educational services, health services, employment services, community services, recreational activities, parenting programs, housing assistance to serve substance-abusing youth who are assigned to the juvenile drug court program.

OJJDP and the Department of Health and Human Services' Center for Substance Abuse Treatment (CSAT) will continue joint funding to integrate and implement the juvenile drug court and Reclaiming Futures program models. The National Council of Juvenile and Family Court Judges provides training and technical assistance.

Enforcing Underage Drinking Laws Program

The Enforcing Underage Drinking Laws (EUDL) Program supports States' efforts to reduce drinking by juveniles through its four components: Block grants to the 50 States, the 5 territories, and the District of Columbia; discretionary grants; technical assistance; and research and evaluation. Under the block grant component, each State, the District of Columbia, and the territories receive approximately $360,000 annually to support law enforcement activities, media campaigns, and coalition building. The EUDL discretionary grant component supports several diverse initiatives to help communities develop promising approaches to address underage drinking. EUDL training and technical assistance supports communities and States in their efforts to enforce underage drinking laws. EUDL funds and Federal partnerships also support evaluations of community initiatives within the EUDL discretionary grant component.

Enforcing Underage Drinking Laws Assessment, Strategic Planning, and Implementation Initiative

Under this discretionary component of the Enforcing Underage Drinking Laws program, States will implement an assessment and strategic planning process to develop targeted, effective activities to reduce underage access and consumption of alcohol. Grantees will assess local conditions and design a long-term strategic plan; implement selected and approved actions of that plan; collect, analyze, and report data; and evaluate how the State responded to the recommendations, crafted its strategic plan, and implemented portions of the plan with the remaining funds.

Mentoring

OJJDP supports mentoring programs for youth at risk of failing in school, dropping out of school, or becoming involved in delinquent behavior, including gang activity and substance abuse. The goals of the programs are to reduce juvenile delinquency and gang participation, improve academic performance, and reduce the school dropout rate. Mentoring funds support mentoring programs that provide general guidance and support; promote personal and social responsibility; increase participation in education; support juvenile offenders returning to their communities after confinement in a residential facility; discourage use of illegal drugs and firearms; discourage involvement in gangs, violence and other delinquent activity; and encourage participation in community service activities. OJJDP will also sponsor several research projects that will evaluate mentoring programs or approaches and the effectiveness of specific mentoring practices.

Second Chance Act Juvenile Mentoring Initiative

The Second Chance Act Juvenile Mentoring Initiative will provide grants for mentoring and other transitional services to reintegrate juvenile offenders into their communities. The grants will be used to mentor juvenile offenders during confinement, through transition back to the community, and post-release; to provide transitional services to assist them in their reintegration into the community; and to support training in offender and victims issues. The initiative's goals are to reduce recidivism among juvenile ex-offenders, enhance community safety, and enhance the capacity of local partnerships to address the needs of juvenile ex-offenders returning to their communities.

Group Mentoring Research and Evaluation Program

OJJDP seeks to expand what is known about nontraditional mentoring programs as a prevention and intervention strategy for juvenile delinquency. OJJDP will evaluate the effectiveness of select group mentoring programs supported by local Boys and Girls Clubs. Increasing knowledge regarding the use of group and site-based mentoring programs is a primary goal for this evaluation.

Mentoring Research Program

This program seeks to enhance the understanding of mentoring as a prevention strategy for youth who are at risk of involvement or already involved in the juvenile justice system. While mentoring appears to be a promising intervention for youth, more evaluation work is needed to further highlight the components of a mentoring program that are most effective. It is expected that the results of this effort will encourage a more effective utilization of resources as well as enhance the implementation of evidence-based best practices for juvenile mentoring.

Mentoring for Safe Schools/Healthy Students Initiatives

The Safe Schools/Healthy Students Initiatives are a joint effort by the U.S. Departments of Education, Health and Human Services, and Justice to support schools in creating safer and healthier learning environments. Under this initiative current Safe Schools/Healthy Student sites will develop and implement community-based mentoring programs in conjunction with their overall comprehensive communitywide plan. Safe Schools supports the reduction of negative behavior in elementary and middle school youth (e.g., truancy, bullying) and enhances positive behavior and connection to their families, school personnel, and other community members through evidence-based mentoring initiatives.

National and Multi-State Mentoring Programs

These programs support national organizations and organizations with mentoring programs in at least five States to enhance or expand community programs that provide mentoring services to high-risk populations that are underserved due to location, shortage of mentors, special physical or mental challenges of the targeted population, or other analogous situations that the community in need of mentoring services identifies.

Strategic Enhancement to Mentoring Programs

Strategic Enhancement to Mentoring Programs focus on enhancing existing mentoring programs. The three enhancements include: (1) Involving the parents in activities or services, (2) providing structured activities and programs for the mentoring matches, and (3) developing and implementing ongoing training and support for mentors.

Child Victimization

Since its inception, OJJDP has consistently strived to safeguard children from victimization by supporting research, training, and community programs that emphasize prevention and early intervention. A commitment to children's safety is written into the Office's legislative mandate, which includes the Juvenile Justice and Delinquency Prevention Act of 1974, the Missing Children's Assistance Act of 1984, and the Victims of Child Abuse Act of 1990. OJJDP continues to improve the responses of the justice system and related systems, increase public awareness, and promote model programs for addressing child victimization in States and communities across the country.

Children's Advocacy Centers

OJJDP will continue funding for programs that improve the coordinated investigation and prosecution of child abuse cases. These programs include a national subgrant program for local children's advocacy centers, a membership and accreditation program, regional children's advocacy centers, and specialized technical assistance and training programs for child abuse professionals and prosecutors. Local Children's Advocacy Centers utilize multidisciplinary teams of professionals to coordinate the investigation, treatment, and prosecution of child abuse cases.

Court Appointed Special Advocate Programs

OJJDP will continue funding for Court Appointed Special Advocates (CASA) programs that provide children in the foster care system or at risk of entering the dependency system with high-quality, timely, effective, and sensitive representation before the court. CASA programs train and support volunteers who advocate for the best interests of the child in dependency proceedings. OJJDP funds a national CASA training and technical assistance provider and a national membership and accreditation organization to support State and local CASA organizations' efforts to recruit volunteer advocates, including minority volunteers, and to provide training and technical assistance to these organizations and to stakeholders in the child welfare system.

Missing Children

Authorized through the Missing Children's Assistance Act of 1984, as amended, these programs enhance the national response of State, local, and Federal law enforcement agencies, prosecutors, and nongovernmental organizations to missing and exploited children. These programs serve as the primary vehicle for building a national infrastructure to support efforts to prevent the abduction and exploitation of our nation's children.

Missing and Exploited Children Program Support

OJJDP will continue funding for a national membership organization for nonprofit organizations serving the families of missing children and to assist in identifying and promulgating best practices in serving these children and families.

In FY 2010, OJJDP also will support programs that:

• Provide training and technical assistance to local, State, and tribal law enforcement agencies and other organizations charged with responding to missing children cases.

• Design and implement the AMBER Alert National Conference.

• Improve responses to child abductions across borders.

• Conduct research on children characterized as lost, injured, or missing to improve community responses to these cases.

• Conduct a national study of the incidence of missing children.

Missing and Exploited Children Training and Technical Assistance Program

This program will support training in areas such as child abuse investigations, child fatality investigations, and child sexual exploitation investigations. Authorized by the Missing Children's Assistance Act, this program will help State and local law enforcement, child protection, prosecutors, medical providers, and child advocacy center professionals develop an effective response to child victimization cases.

Child Exploitation

The increasing number of children and teens using the Internet, the proliferation of child pornography, and the increasing number of sexual predators who use the Internet and other electronic media to prey on children present both a significant threat to the health and safety of young people and a formidable challenge for law enforcement. OJJDP took the lead early on in addressing this problem. More than a decade ago, the Office established the Internet Crimes Against Children task force program. In FY 2010, OJJDP will launch the Youth with Sexual Behavior Problems Program to support localities in the development and implementation of treatment programs for youth ages 10 to 14 who have exhibited inappropriate sexual behaviors against another child and for their victims. The program will specifically address interfamilial and/or co-residential sexual misconduct for youth and provide adjunctive support services to child victims and families who have been victimized.

Internet Crimes Against Children Program

OJJDP will continue funding to support the operations of the 61 Internet Crimes Against Children (ICAC) task forces. The ICAC Task Force Program helps State and local law enforcement agencies develop an effective response to sexual predators who prey upon juveniles via the Internet and other electronic devices and child pornography cases. This program encompasses forensic and investigative components, training and technical assistance, victim services, and community education.

The ICAC Task Force Strategies for Protecting Children at High Risk for Commercial Sexual Exploitation Program will support select law enforcement agencies as they

• Improve training and coordination.

• Develop policies and procedures to identify commercial sexual exploitation victims.

• Investigate and prosecute cases against adults who sexually exploit children for commercial purposes.

• Adopt practices to intervene appropriately with and compassionately serve victims, including providing essential services in cases where technology is used to facilitate the exploitation of the victim.

In addition, OJJDP is supporting related ICAC activities and programs, including:

• Designing and implementing the 2011 ICAC National Training Conference.

• Research on Internet and other technology-facilitated crimes against children.

• Training for ICAC officers, prosecutors, judges, and other stakeholders.

• Technical assistance to support implementation of the ICAC program.

Youth With Sexual Behavior Problems Program

This program will assist localities in responding to instances of child sexual victimization by perpetrators who are younger than 18 years old, with a specific emphasis on interfamilial child victims and offenders. The program will develop communities' capacity to utilize a multidisciplinary approach when working with children who have been sexually abused by other children and adolescents. The program will also build communities' capacity to provide treatment and supervision resources to youthful perpetrators of sexual abuse against children. This program will be coordinated with OJP's Sex Offender Sentencing, Monitoring, Apprehending, Registering, and Tracking (SMART) Office.

Juvenile Justice System Improvement

OJJDP works to improve the effectiveness and efficiency of the juvenile justice system. A major component of these efforts is the provision of training and technical assistance (TTA) resources that address the needs of juvenile justice practitioners and support State and local efforts to build capacity and expand the use of evidence-based practices. Training and technical assistance is the planning, development, delivery, and evaluation of activities to achieve specific learning objectives, resolve problems, and foster the application of innovative approaches to juvenile delinquency and victimization. OJJDP has developed a network of providers to provide targeted training and technical assistance to policymakers and practitioners.

Child Abuse Training for Judicial and Court Personnel

OJJDP will continue funding for programs that provide targeted training and technical assistance to judicial and court personnel who work within the dependency system. The purpose of this initiative is to improve the juvenile and family courts' handling of child abuse and neglect cases and ensure timely decisionmaking in permanency planning for abused and neglected children. The initiative also aims to reduce and eventually eliminate racial disproportionality and disparate treatment in the dependency system.

Engaging Law Enforcement To Reduce Juvenile Crime, Victimization, and Delinquency

This program supports the enhancement or expansion of approaches that engage Federal, State, local, and tribal law enforcement in reducing juvenile crime, victimization, and delinquency by providing them with comprehensive training, technical assistance, and research findings. The initiative will examine how police can address priority issues more effectively using evidence-based strategies that enhance their effectiveness in policing situations involving youth. Key issues may include disproportionate minority contact, responses to adolescent girls, school safety, and unsafe and inappropriate use of electronic communication. This initiative will engage law enforcement leaders and front-line officers through classroom and Web-based instruction, online resources, peer-to-peer networking and interaction, and geospatial information system technology.

State Advisory Group Training and Technical Assistance Project

Under this project, OJJDP provides training and technical assistance to State advisory groups (SAGs) appointed under the Juvenile Justice and Delinquency Prevention Act (JJDP Act) 1974, as amended. The training and technical assistance that SAG members receive serve two broad purposes. It enables them to: (1) Better understand the juvenile justice system in their respective States or territories and (2) become more familiar with all programs and facilities serving youth. Trained SAG members will more effectively carry out their roles and responsibilities to ensure and enhance a responsive juvenile justice system within their jurisdictions.

General

Support for Conferences on Juvenile Justice

OJJDP will support conferences that address juvenile justice and the prevention of delinquency. This support would provide community prevention leaders, treatment professionals, juvenile justice officials, researchers, and practitioners with information on best practices and research-based models to support State, local government, and community efforts to prevent juvenile delinquency.

Dated: May 17, 2010.
Jeff Slowikowski,
Acting Administrator, Office of Juvenile Justice and Delinquency Prevention.

[FR Doc. 2010-12092 Filed 5-19-10; 8:45 am]

BILLING CODE P